DEPARTMENT OF HEALTH AND HUMAN SERVICES

Health Resources and Services Administration

Agency Information Collection Activities: Proposed Collection: Public Comment Request

AGENCY: Health Resources and Services Administration, HHS.

ACTION: Notice.

SUMMARY: In compliance with the requirement for opportunity for public comment on proposed data collection projects (Section 3506(c)(2)(A) of the Paperwork Reduction Act of 1995), the Health Resources and Services Administration (HRSA) announces plans to submit an Information Collection Request (ICR), described below, to the Office of Management and Budget (OMB). Prior to submitting the ICR to OMB, HRSA seeks comments from the public regarding the burden estimate, below, or any other aspect of the ICR.

DATES: Comments on this Information Collection Request must be received no later than August 18, 2014.

ADDRESSES: Submit your comments to paperwork@hrsa.gov or mail the HRSA Information Collection Clearance Officer, Room 10-29, Parklawn Building, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: Federal Tort Claims Act Free Clinic Application OMB No. 0915-0293—Revision

Abstract: Under 42 U.S.C. 233(o) and HRSA Program Assistance Letter (PAL) 2014-04, “Calendar Year 2015 Federal Tort Claims Act (FTCA) Deeming Application for Free Clinics,” free clinics are required to submit annual, renewal, and supplemental applications for the process of deeming qualified health care professionals, board members, officers, and contractors for FTCA medical malpractice coverage for negligent acts and omissions that arise from the performance of medical, surgical, dental, or related functions within the scope of the covered individual's employment. HRSA proposes modifying the application forms to reflect changes to eligible personnel made by section 10608 of the Affordable Care Act, amending 42 U.S.C. 233(o)(1), which extended FTCA medical malpractice liability protection to free clinic board members, officers, employees, and contractors. Additionally, HRSA proposes upgrading the application to provide for electronic submissions. Specifically, the modifications include: (1) Inclusion of board members, officers, employees, and contractors into one comprehensive application that also includes volunteer health care professionals, and (2) a fully electronic application that can be submitted via HRSA's web based application system, the Electronic Handbooks (EHBs). It is anticipated that these modifications will decrease the time and effort required to complete the current OMB approved FTCA application forms.

Need and Proposed Use of the Information: Deemed status for FTCA medical malpractice coverage requires HRSA approval of an application for deeming of certain eligible individuals from a sponsoring free clinic. The FTCA Free Clinic deeming application is an electronic application submitted to HRSA through the EHBs as part of the process of deeming qualified health care professionals, board members, officers, and individual contractors. Sponsoring clinics are required to submit a completed electronic application in addition to other required documents as required by section 224(o) of the Public Health Service Act (42 U.S.C. 233(o)). Applications are reviewed by program staff before a deeming determination is made.

Likely Respondents: Respondents include nonprofit private entities that meet the statutory and programmatic requirements as stated in section 224(o) of the Public Health Service Act (42 U.S.C. 233(o)).

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

Total Estimated Annualized burden hours:

Form name | Number of respondents | Number of responses per respondent | Total responses | Average burden per response (in hours) | Total burden hours
FTCA Free Clinics Program Application | 227 | 1 | 227 | 2 | 681
Total | 227 | 1 | 227 | 2 | 681

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Dated: June 11, 2014.
Jackie Painter,
Deputy Director, Division of Policy and Information Coordination.

[FR Doc. 2014-14192 Filed 6-17-14; 8:45 am]

BILLING CODE 4165-15-P